OFFICE OF PERSONNEL MANAGEMENT

Notice of Submission for Approval: Information Collection 3206-0259; Freedom of Information/Privacy Act Record Request Form, INV 100

AGENCY: U.S. Office of Personnel Management.

ACTION: 60-Day Notice and request for comments.

SUMMARY: Federal Investigative Services (FIS), U.S. Office of Personnel Management (OPM) is notifying the general public and other Federal agencies that OPM is seeking Office of Management and Budget (OMB) approval for renewal of information collection control number 3206-0259, Freedom of Information/Privacy Act Record Request Form, INV 100. OPM is soliciting comments for this collection as required by the Paperwork Reduction Act of 1995, (Pub. L. 104-13, 44 U.S.C. chapter 35), as amended by the Clinger-Cohen Act (Pub. L. 104-106). The Office of Management and Budget is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

DATES: Comments are encouraged and will be accepted until March 21, 2016. This process is conducted in accordance with 5 CFR 1320.8(d).

ADDRESSES: Interested persons are invited to submit written comments on the proposed information collection to the Federal Investigative Services, U.S. Office of Personnel Management, 1900 E Street NW., Washington, DC 20415, Attention: Donna McLeod or by electronic mail at FISFormsComments@opm.gov.

FOR FURTHER INFORMATION CONTACT: A copy of this information collection, with applicable supporting documentation, may be obtained by contacting Federal Investigative Services, U.S. Office of Personnel Management, 1900 E Street NW., Washington, DC 20415, Attention: Donna McLeod or by electronic mail at FISFormsComments@opm.gov.

SUPPLEMENTARY INFORMATION: The Freedom of Information/Privacy Act Record Request Form, INV 100, is an information collection completed by individuals submitting Freedom of Information (FOIA), Privacy Act, and Amendment record requests to OPM's Federal Investigative Services (FIS), Freedom of Information and Privacy Act (FOI/PA) office. OPM's FIS-FOI/PA office utilizes the optional form INV 100 to standardize collection of data elements specific to the types of record requests. Current record requests can be submitted to FIS-FOI/PA in a format chosen by the requester. Often, requests are missing data elements which require contact with the requester, thereby adding time to the process. Standardization of the data elements collected can assist with enabling FIS-FOI/PA to fulfill FOIA, Privacy Act, and Amendment requests in an efficient manner.

OPM proposes no changes to the form.

Analysis

Agency: Federal Investigative Services, U.S. Office of Personnel Management.

Title: Freedom of Information/Privacy Act Record Request Form, INV 100.

OMB Number: 3206-0259.

Affected Public: Individuals submitting FOIA and Privacy Act record requests to FIS-FOI/PA.

Number of Respondents: 15,682.

Estimated Time per Respondent: 5 minutes.

Total Burden Hours: 1,307.

U.S. Office of Personnel Management.
Beth F. Cobert,
Acting Director.

[FR Doc. 2016-00990 Filed 1-15-16; 8:45 am]

BILLING CODE 6325-53-P